DEPARTMENT OF ENERGY

Federal Energy Regulatory Commission

[ Docket No. RP02-492-004]

Algonquin Gas Transmission Company; Notice of Compliance Filing

January 13, 2004.

Take notice that on January 7, 2004, Algonquin Gas Transmission Company (Algonquin) tendered for filing as part of its FERC Gas Tariff, Fourth Revised Volume No. 1, Sub Original Sheet No. 640A, effective October 1, 2002.

Algonquin states that the purpose of this filing is to comply with the Commission's Order issued in the captioned docket on December 23, 2003, which accepted subject to condition, tariff sheets filed by Algonquin on February 19, 2003, clarifying the calculation of partial day release quantities as determined using the standards promulgated by the North American Energy Standards Board. Algonquin states that the tariff sheet filed herewith removes a proposal to add an MDTQ Overrun Charge and MDTQ Overrun Penalty in compliance with paragraph 13 of the December 23 Order.

Algonquin states that copies of its filing have been served on all affected customers, interested State commissions, and all parties on the Commission's official service list in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Magalie R. Salas,
Secretary.

[FR Doc. E4-88 Filed 1-20-04; 8:45 am]

BILLING CODE 6717-01-P